DEPARTMENT OF THE INTERIOR

Fish and Wildlife Service

The Priority List Under the Multistate Conservation Grant Program for Conservation Projects Submitted to the U.S. Fish and Wildlife Service by the International Association of Fish and Wildlife Agencies

AGENCY: Fish and Wildlife Service, Interior.

ACTION: Notice—Multistate Conservation Grant Program.

SUMMARY: The Service is publishing the priority list for the Multistate Conservation Grant Program submitted by the International Association of Fish and Wildlife Agencies. This notice is required by the Fish and Wildlife Programs Improvement and National Wildlife Refuges System Centennial Act of 2000. Grants may be made from this list.

DATES: This notice is effective upon date of publication in the Federal Register.

FOR FURTHER INFORMATION CONTACT: Chris McKay, Grants Manager, U.S. Fish and Wildlife Service, 4401 North Fairfax Drive, Suite 140, Arlington Virginia 22203, (703) 358-1711.

SUPPLEMENTARY INFORMATION: The Fish and Wildlife Programs Improvement and National Wildlife Refuges System Centennial Act of 2000 (Pub. L. 106-408) established a Multistate Conservation Grant Program within the Federal Aid in Wildlife Restoration and Federal Aid in Sport Fish Restoration Acts. The Improvement Act authorizes grants of up to $3 million annually from funds available under each of the Restoration Acts, for a total of up to $6 million annually. Grants may be made from a priority list of projects submitted by the International Association of Fish and Wildlife Agencies (IAFWA), representing the State fish and wildlife agencies. The Service Director, exercising the authority of the Secretary, need not fund all recommended projects, but may not fund projects which are not recommended.

To be eligible for consideration, a project must benefit fish and/or wildlife conservation in at least 26 States, a majority of the States in a Fish and Wildlife Service Region, or a regional association of State fish and wildlife agencies. Grants may be made to a State or group of States, to non-governmental organizations, and, solely for carrying out the National Survey of Fishing, Hunting and Wildlife-Associated Recreation, to the Fish and Wildlife Service.

Title | Applicant | Wildlife funds | Sport fish funds
The 2001 Economic Contributions of Sport Fishing | American Sportfishing Association |  | $73,044
National Survey of Fishing, Hunting and Wildlife-Associated Recreation | USFWS | $1,432,516 | 1,432,516
Representation of the Northeastern Association of Fish and Wildlife Agencies in International Conventions and Protocols | Northeast Association of Fish and Wildlife Agencies | 4,500 | 4,500
The 2001 Economic Contributions of Hunting | IAFWA—Animal Use Issues Task Force | 76,992 |
Pumpout Equipment Standards and Lifecycle Testing | States Organization for Boating Access |  | 299,000
Representationo f the Association of Midwest Fish and Wildlife Agencies in International Conventions and Protocols | Association of Midwest Fish and Wildlife Agencies | 4,500 | 4,500
New Computer Models for Trap Testing in the Development of Best Management Practices to Improve Management of State Wildlife Resources | Northeast Association of Fish and Wildlife Resource Agencies | 76,937 |
The Need to Develop a Geographic Information System to Facilitate Integrated Bird Conservation in the Central Hardwoods Bird Conservation Region | Tennessee Wildlife Resources Agency | 33,750 |
Sage-Grouse Interstate Working Group Coordinator | Western Association of Fish and Wildlife Agencies | 120,000 |
Management Assistance Team (MAT) | IAFWA | 248,340 | 248,340
Instream Flows for Reverine Resource Stewardship | Wyoming Game and Fish Department |  | 16,650
Step Outside | National Shooting Sports Foundation | 171,100 |
Fish and Wildlife Reference Service | KRA Corporation | 236,141 | 236,141
Fate and Effect of the Aquaculture Therapeutic Potassium Permanganate | Department of Biological Sciences, Arkansas State University |  | 59,915
Coordination of Vegetation Establishment and Management on Conservation Reserve Program Lands | IAFWA—Agricultural Conservation Task Force | 75,000 |
Representation of the Western Assocaition of Fish and Wildlife Agencies and its Member States in International Treaties and Protocols | Western Association of Fish and Wildlife Agencies | 4,500 | 4,500
Understanding the Relationship Between Waterfowl Hunting Regulations and Hunter Satisfaction/Participation, with Recommendations for Improvements to Agency Management and Conservation Programs | Wildlife Management Institute | 61,450 |
Development and Validation of Determinative Analytical Method for the Marker Residue of AQUI-S, a Fish Anesthetic for Public Fish Facilities and Fishery Management | IAFWA—Fisheries and Water Resources Policy Committee |  | 49,335
Development of a Model for Infecting Fish with Columnaris to Facilitate Pivotal Efficacy Trials for Treating the Disease with Candidate Therapeutants | IAFWA—Fisheries and Water Resources Policy Committee |  | 105,651
New Animal Drug Application (NADA) for Oxytetracycline Immersion Therapy for Diseases of Cool and Warm Water Fish Species Cultured on Public Fish Facilities | IAFWA—Fisheries and Water Resources Policy Committee |  | 96,921
Multistate Conservation Grant Program Coordination | IAFWA—Executive Committee | 44,460 | 44,460
Support for State “Hooked On Fishing—Not On Drugs” and Fishing Tackle Loaner Programs | Future Fisherman Foundation |  | 294,200
Bird Conservation for the Nation: Implementation of All-Bird Conservation | IAFWA—Migratory Bird Committee | 250,000 |
Representation of the Southeastern Association of Fish and Wildlife Agencies in International Conventions and Protocols | Southeast Association of Fish and Wildlife Agencies | 4,500 | 4,500
Outreach Project—Enhancing Communications Strategies and Improving Administration of State Wildlife Resource Programs through Implementating Best Management Practices (BMP's): A Plan to Assist State Agencies with the Dissemination of New Technology for Furbearer Management | IAFWA—Furbearer Resources Task Force | 200,000 |
Science and Civics, Sustaining Wildlife, Involving High School Students and Addressing Wildlife Needs | Project WILD | 26,328 | 26,328
Total |  | 3,071,014 | 3,000,501

Both total amounts are over the amount allocated by Congress for this program. Funds allocated, but not spent, from FY 2001 will be used to make up the difference for FY 2002.

Dated: October 16, 2001.
Marshall P. Jones, Jr.,
Acting Director, U.S. Fish and Wildlife Service.

[FR Doc. 01-29702 Filed 11-29-01; 8:45 am]

BILLING CODE 4310-55-M